DEPARTMENT OF LABOR

Occupational Safety and Health Administration

[Docket No. OSHA-2009-0018]

Federal Advisory Council on Occupational Safety and Health (FACOSH)

AGENCY: Occupational Safety and Health Administration (OSHA), Labor.

ACTION: Announcement of special meeting.

SUMMARY: The Federal Advisory Council on Occupational Safety and Health (FACOSH) will hold a special meeting on September 15, 2009, in Washington, DC, to review a draft report from the FACOSH Emerging Issues Workgroup on activities related to Federal agency pandemic-H1N1 influenza preparedness planning for the Federal workforce.

DATES: FACOSH meeting: FACOSH will meet from 1 p.m. to 4:30 p.m., Tuesday, September 15, 2009.

Submission of comments, requests to speak, and requests for special accommodations: Comments, requests to speak at the FACOSH meeting, and requests for special accommodations must be submitted (postmarked, sent, transmitted) by September 8, 2009.

ADDRESSES: FACOSH meeting: FACOSH will meet in Rooms N-4437 B/C/D, U.S. Department of Labor, 200 Constitution Avenue, NW., Washington, DC 20210.

Submission of comments and requests to speak: Comments and requests to speak at the FACOSH meeting, identified by Docket No. OSHA-2009-0018, may be submitted by any of the following methods:

Electronically: You may submit materials, including attachments, electronically at http://www.regulations.gov, the Federal eRulemaking Portal. Follow the online instructions for making submissions.

Facsimile: If your submission, including attachments, does not exceed 10 pages, you may fax it to the OSHA Docket Office at (202) 693-1648.

Mail, express delivery, hand delivery, messenger or courier service: You must submit three copies of your submissions to the OSHA Docket Office, Room N-2625, U.S. Department of Labor, 200 Constitution Avenue, NW., Washington, DC 20210; telephone (202) 693-2350 (TTY (877) 889-5627). Deliveries (hand, express mail, messenger and courier service) are accepted during the Department of Labor's and OSHA Docket Office's normal business hours, 8:15 a.m.-4:45 p.m., e.t.

Requests for special accommodations for FACOSH meeting: Submit requests for special accommodations by telephone, e-mail or hard copy to Ms. Veneta Chatmon, OSHA, Office of Communications, Room N-3647, U.S. Department of Labor, 200 Constitution Avenue, NW., Washington, DC 20210; telephone (202) 693-1999; e-mail chatmon.veneta@dol.gov.

Instructions: All comments, requests to speak, and requests for special accommodations must include the Agency name and docket number for this Federal Register notice (Docket No. OSHA-2009-0018). Because of security-related procedures, submissions by regular mail may result in a significant delay in their receipt. Please contact the OSHA Docket Office, at the address above, for information about security procedures for making submissions by hand delivery, express delivery, and messenger or courier service. For additional information on submitting comments and requests to speak, see the SUPPLEMENTARY INFORMATION section below.

Comments and requests to speak, including any personal information provided, will be posted without change at http://www.regulations.gov. Therefore, OSHA cautions interested parties about submitting certain personal information such as social security numbers and birth dates.

Docket: To read or download submissions in response to this Federal Register notice, go to Docket No. OSHA-2009-0018 at http://www.regulations.gov or the OSHA Docket Office at the address above. All documents in the docket are listed in the http://www.regulations.gov index. Although listed in the index, some documents (e.g., copyrighted material) are not publicly available to read or download through http://www.regulations.gov. All submissions, including copyrighted material, are available for inspection and copying at the OSHA Docket Office.

FOR FURTHER INFORMATION CONTACT: For press inquiries: Ms. Jennifer Ashley, OSHA, Office of Communications, U.S. Department of Labor, Room N-3647, 200 Constitution Avenue, NW., Washington, DC 20210; telephone (202) 693-1999.

For general information: Mr. Francis Yebesi, OSHA, Office of Federal Agency Programs, U.S. Department of Labor, Room N-3622, 200 Constitution Avenue, NW., Washington, DC 20210; telephone (202) 693-2122; e-mail ofap@dol.gov.

SUPPLEMENTARY INFORMATION: FACOSH will hold a special meeting on Tuesday, September 15, 2009, in Washington, DC. FACOSH meetings are open to the public.

FACOSH is authorized by 5 U.S.C. 7902, section 19 of the Occupational Safety and Health Act of 1970 (OSH Act) (29 U.S.C. 668), and Executive Order 12196 to advise the Secretary of Labor on all matters relating to the occupational safety and health of Federal employees. This includes providing advice on how to reduce and keep to a minimum the number of injuries and illnesses in the Federal workforce and how to encourage each Federal Executive Branch Department and Agency to establish and maintain effective occupational safety and health programs.

The tentative agenda for this special FACOSH meeting is consideration of and deliberation on a draft report from the FACOSH Emerging Issues Workgroup on activities related to Federal agency pandemic-H1N1 influenza preparedness planning for the Federal workforce.

FACOSH meetings are transcribed and detailed minutes of the meetings are prepared. Meeting transcripts, minutes and other materials presented at the meeting are included in the FACOSH meeting record.

Public Participation

FACOSH meetings are open to the public. Interested parties may submit a request to make an oral presentation to FACOSH by one of the methods listed in the ADDRESSES section. The request must state the amount of time requested to speak, the interest represented (e.g., organization name), if any, and a brief outline of the presentation. Requests to address FACOSH may be granted as time permits and at the discretion of the FACOSH chair.

Interested parties also may submit comments, including data and other information, using any of the methods listed in the ADDRESSES section. OSHA will provide all submissions to FACOSH members prior to the meeting.

Individuals who need special accommodations and wish to attend the FACOSH meeting must contact Ms. Chatmon (see ADDRESSES section).

Submissions and Access to Meeting Record

You may submit comments and requests to speak (1) Electronically, (2) by facsimile, or (3) by hard copy. You may submit requests for special accommodations by (1) telephone, (2) e-mail, or (3) hard copy. All submissions, including attachments and other materials, must identify the Agency name and the OSHA docket number for this notice (Docket No. OSHA-2009-0018). You may supplement electronic submissions by uploading documents electronically. If, instead, you wish to submit hard copies of supplementary documents, you must submit three copies to the OSHA Docket Office using the instructions in the ADDRESSES section. The additional materials must clearly identify your electronic submission by name, date and docket number.

Because of security-related procedures, the use of regular mail may cause a significant delay in the receipt of submissions. For information about security procedures concerning the delivery of submissions by hand, express delivery, messenger or courier service, please contact the OSHA Docket Office at (202) 693-2350 (TTY (877) 889-5627).

Meeting transcripts and minutes as well as comments and requests to speak are included in the public record of this FACOSH meeting (Docket No. OSHA-2009-0018). Written comments and requests to speak are posted without change at http://www.regulations.gov. Therefore, OSHA cautions interested parties about submitting certain personal information such as social security numbers and birth dates. Although submissions are listed in the http://www.regulations.gov index, some documents (e.g., copyrighted material) are not publicly available to read or download through http://www.regulations.gov. Submissions, including copyrighted material, are available for inspection and copying at the OSHA Docket Office.

Contact the OSHA Docket Office for information about materials not available through the Web site and for assistance in using the Internet to locate submissions and other documents in the docket.

Electronic copies of this Federal Register notice are available at http://www.regulations.gov. This notice, as well as news releases and other relevant information, is also available at OSHA's Web page at http://www.osha.gov.

Authority and Signature

Jordan Barab, Acting Assistant Secretary of Labor for Occupational Safety and Health, directed the preparation of this notice under the authority granted by section 19 of the Occupational Safety and Health Act of 1970 (OSH Act) (29 U.S.C. 668), 5 U.S.C. 7902, section 1-5 of Executive Order 12196, the Federal Advisory Committee Act (5 U.S.C. App. 2) and regulations issued under FACA (41 CFR Part 102-3), and Secretary of Labor's Order No. 5-2007 (72 FR 31160).

Signed at Washington, DC, this 14th day of August 2009.
Jordan Barab,
Acting Assistant Secretary of Labor for Occupational Safety and Health.

[FR Doc. E9-19897 Filed 8-18-09; 8:45 am]

BILLING CODE 4510-26-P